DEPARTMENT OF JUSTICE

Notice of Lodging of Consent Decree in United States and Commonwealth of Kentucky Environmental and Public Protection Cabinet v. East Kentucky Power Cooperative, Inc. Under the Clean Air Act

Under 28 CFR 50.7, notice is hereby given that on September 20, 2007, a proposed consent decree (“Consent Decree”) was lodged in United States and Commonwealth of Kentucky Environmental and Public Protection Cabinet v. East Kentucky Power Cooperative, Inc., Civil Action No. 06-cv-00211-JMH, pending in the United States District Court for the Eastern District of Kentucky.

The Consent Decree would resolve claims asserted by the United States against EKPC pursuant to sections 113(b) and 414 of the Clean Air Act (the “Act”), 42 U.S.C. 7413(b) and 77651m, seeking injunctive relief and assessment of civil penalties for EKPC's violation of:

(a) The Acid Rain provisions of the Act, 42 U.S.C. 7651 through 7651o;

(b) Title V of the Act, 42 U.S.C. 7661 et seq.; and

(c) The federally-enforceable State Implementation Plan (“SIP”) developed by the Commonwealth of Kentucky.

EKPC operates three coal-fired power plants in Kentucky. The complaint filed by the United States alleges that EKPC modified Units 1 and 2 at its Dale facility without complying with federal and state requirements for participation in emissions allowance trading programs, and without installing nitrogen oxide emissions controls required under the Acid Rain provisions of the Act.

The complaint also alleges that EKPC violated Title V of the Act by operating without a permit that included Acid Rain requirements for Dale Units 1 and 2, and that EKPC violated Kentucky's SIP by failing to purchase and retire nitrogen oxide ozone season emissions allowances for Dale Units 1 and 2.

The proposed Consent Decree would require EKPC to install and operate nitrogen oxide emissions controls on Dale Units 1 and 2, to continuously operate pollution monitoring equipment for those units, and to apply for appropriate permits. The proposed Consent Decree would also require EKPC to pay a fixed penalty of $11,400,000 over six years, with the possibility of additional penalty payments if EKPC meets certain thresholds of financial performance.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. East Kentucky Power Cooperative, D.J. Ref. No. 90-5-2-1-08835.

The Consent Decree may be examined at the Office of the United States Attorney, Eastern District of Kentucky, 260 West Vine Street, Suite 300, Lexington, Kentucky 40507-1612, and at U.S. EPA Region IV, 61 Forsyth Street, SW., Atlanta, Georgia 30303-8960. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.75 (25 cents per page reproduction cost) payable to the U.S. Treasury or, if by e-mail or fax, forward a check in that amount to the Consent Decree Library at the stated address.

W. Benjamin Fisherow,
Deputy Chief, Environmental Enforcement Section, Environment and Natural Resources Division.

[FR Doc. 07-4902 Filed 10-3-07; 8:45 am]

BILLING CODE 4410-15-M